DEPARTMENT OF EDUCATION

34 CFR Chapter VI

Negotiated Rulemaking Committee, Negotiator Nominations and Schedule of Committee Meetings—Student Loan Programs

AGENCY: Office of Postsecondary Education, Department of Education.

ACTION: Notice of establishment of negotiated rulemaking committee.

SUMMARY: We announce our intention to establish a negotiated rulemaking committee to prepare proposed regulations governing the student loan programs authorized under title IV of the Higher Education Act of 1965, as amended (HEA). The committee will include representatives of organizations or groups with interests that are significantly affected by the topics proposed for negotiation. We request nominations for individual negotiators who represent key stakeholder constituencies for the issues to be negotiated to serve on the committee and we set a schedule for committee meetings.

DATES: We must receive your nominations for negotiators to serve on the committee on or before November 28, 2011. The dates, times, and locations of the committee meetings are set out in the Schedule for Negotiations section under SUPPLEMENTARY INFORMATION, below.

ADDRESSES: Please send your nominations for negotiators to Wendy Macias, U.S. Department of Education, 1990 K Street, NW., room 8017, Washington, DC 20006, or by fax at (202) 502-7874. You may also email your nominations to Wendy.Macias@ed.gov.

FOR FURTHER INFORMATION CONTACT: For information about the content of this notice, including information about the negotiated rulemaking process or the nomination submission process, contact: Wendy Macias, U.S. Department of Education, 1990 K Street, NW., room 8017, Washington, DC 20006. Telephone: (202) 502-7526. You may also email your questions about the nomination submission process to: Wendy.Macias@ed.gov.

Note: For general information about the negotiated rulemaking process, see The Negotiated Rulemaking Process for Title IV Regulations, Frequently Asked Questions at http://www.ed.gov/policy/highered/reg/hearulemaking/hea08/neg-reg-faq.html.

If you use a telecommunications device for the deaf (TDD), call the Federal Relay Service (FRS), toll free at 1-800-877-8339.

SUPPLEMENTARY INFORMATION: On May 5, 2011, we published a notice in the Federal Register (76 FR 25650) announcing our intent to establish one or more negotiated rulemaking committees to develop proposed regulations under the HEA. In addition, we announced our intent to develop these proposed regulations by following the negotiated rulemaking procedures in Section 492 of the HEA. The notice also announced a series of three regional hearings at which interested parties could comment on the topics suggested by the Department and suggest additional topics for consideration for action by the negotiating committees. We also held four public roundtable discussions to complement the regional hearings. The hearings and roundtables were held in: Nashville, Tennessee (roundtable only); Tacoma, Washington; Chicago, Illinois; and Charleston, South Carolina. We invited parties to comment and submit topics for consideration in writing as well. Transcripts from the regional hearings can be found at http://www2.ed.gov/policy/highered/reg/hearulemaking/2011/hearings.html. Written comments may be viewed through the Federal eRulemaking Portal at http://www.regulations.gov. Instructions for finding comments are available on the site under “How to Use Regulations.gov” in the Help section. Individuals can enter docket ID ED-2011-OPE-0003 in the “Enter Keyword or ID” search box to locate the appropriate docket.

Regulatory Issues: After consideration of the information received at the regional hearings, the roundtable discussions, and in writing, we have decided at this time to establish a negotiating committee to address student loan program issues. The three programs to be addressed are: The William D. Ford Federal Direct Loan (Direct Loan) Program, the Federal Family Education Loan (FFEL) Program, and the Federal Perkins (Perkins) Loan Program.

We list the topics the committee is likely to address under Committee Topics.

We intend to select negotiators for the committee who represent the interests significantly affected by the topics proposed for negotiations. In so doing, we will follow the requirement in Section 492(b)(1) of the HEA that the individuals selected must have demonstrated expertise or experience in the relevant subjects under negotiation. We will also select individual negotiators who reflect the diversity among program participants, in accordance with Section 492(b)(1) of the HEA. Our goal is to establish a committee that will allow significantly affected parties to be represented while keeping the committee size manageable.

The committee may create subgroups on particular topics that may involve additional individuals who are not members of the committee. Individuals who are not selected as members of the committee will be able to attend the meetings, have access to the individuals representing their constituencies, and participate in informal working groups on various issues between the meetings. The committee meetings will be open to the public.

The Department has identified the following constituencies as having interests that are significantly affected by the topics proposed for negotiations. The Department plans to seat as negotiators individuals from organizations or groups representing these constituencies:

• Students.

• Legal assistance organizations that represent students.

• Consumer advocacy organizations.

• Financial aid administrators at postsecondary institutions.

• Business officers and bursars at postsecondary institutions.

• Admissions officers at postsecondary institutions.

• Institutional third-party servicers who perform functions related to the title IV programs (including collection agencies).

• State higher education executive officers.

• State attorneys general and other appropriate State officials.

• Business and industry.

• Institutions of higher education eligible to receive Federal assistance under title III, Parts A, B, and F and title V of the HEA, which include Historically Black Colleges and Universities, Hispanic-Serving Institutions, American Indian Tribally Controlled Colleges and Universities, Alaska Native and Native Hawaiian-Serving Institutions, and other institutions with a substantial enrollment of needy students as defined in title III of the HEA.

• Two-year public institutions of higher education.

• Four-year public institutions of higher education.

• Private, non-profit institutions of higher education.

• Private, for-profit institutions of higher education.

• Guaranty agencies and guaranty agency servicers (including collection agencies).

• Lenders, secondary markets, and loan servicers.

• Regional accrediting agencies.

• National accrediting agencies.

• Specialized accrediting agencies.

• State approval agencies.

• State student grant agencies.

• State agencies addressing secondary education.

The goal of the committee is to develop proposed regulations that reflect a final consensus of the committee. Consensus means that there is no dissent by any member of the negotiating committee, including the committee member representing the Department. An individual selected as a negotiator will be expected to represent the interests of their organization or group. If consensus is reached, all members of the organization or group represented by a negotiator are bound by the consensus and are prohibited from commenting negatively on the resulting proposed regulations. The Department will not consider any such negative comments that are submitted by members of such an organization or group.

Nominations:

Nominations should include:

• The name of the nominee, the organization or group the nominee represents, and a description of the interests that the nominee represents.

• Evidence of the nominee's expertise or experience in the subject, or subjects, to be negotiated.

• Evidence of support from individuals or groups of the constituency that the nominee will represent.

• The nominee's commitment that he or she will actively participate in good faith in the development of the proposed regulations.

• The nominee's contact information, including address, phone number, fax number, and email address.

For a better understanding of the negotiated rulemaking process, nominees should review The Negotiated Rulemaking Process for Title IV Regulations, Frequently Asked Questions at http://www.ed.gov/policy/highered/reg/hearulemaking/hea08/neg-reg-faq.html prior to committing to serve as a negotiator.

Nominees will be notified whether or not they have been selected as negotiators as soon as the Department's review process is completed.

Committee Topics

The topics the committee is likely to address, for each of the three loan programs unless otherwise indicated, are as follows:

• Loan discharges based on total and permanent disability.

• Single application process.

• Borrower notification of denial.

• Post-discharge monitoring of employment earnings.

• Repeal of unnecessary regulations in the FFEL Program due to statutory changes and incorporation and modification of corresponding requirements in the Direct Loan Program regulations.

• Modifications to the Income-Based Repayment (IBR) Plan and the Income Contingent Repayment (ICR) Plan in the Direct Loan and FFEL Programs.

• New borrower notification for annual IBR evaluation.

• Annual income verification.

• Borrower repayment after leaving IBR.

• Closed school loan discharge 90-day eligibility period for borrowers.

• Loan rehabilitation in the Direct Loan and FFEL Programs.

• Reasonable and affordable payment standard.

• Treatment of borrowers subject to administrative wage garnishment.

• Deadline for FFEL lender 60-day delinquent borrower repayment disclosure.

• Satisfactory repayment arrangements for defaulted borrowers.

• Forbearance.

• Borrowers under Department of Defense repayment plans.

• Process for defaulted borrowers.

• Participation rate index appeal for one-year cohort default rates.

• Perkins Loan only issues, including

• Economic hardship deferment debt-to-income provision.

• Graduate fellowship deferment eligibility.

• Social security number requirement for loan assignment.

• Cancellation rate progression across cancellation categories.

• School enrollment status reporting requirements.

• Minimum loan period for transfer students in non-term programs and certain non-standard term programs.

These topics are tentative. Topics may be added or removed as the process continues.

Schedule for Negotiations

The committee will meet for three sessions on the following dates:

Session 1: January 9-13, 2012.

Session 2: February 13-17, 2012.

Session 3: March 26-30, 2012.

All sessions will begin at 12 p.m. on Monday and end at 12 p.m. on Friday.

The meetings will be held at the U.S. Department of Education at: 1990 K Street, NW., Eighth Floor Conference Center, Washington, DC 20006.

Accessible Format: Individuals with disabilities can obtain this document in an accessible format (e.g., braille, large print, audiotape, or compact disc) by contacting the contact person under FOR FURTHER INFORMATION CONTACT.

Electronic Access to This Document: The official version of this document is the document published in the Federal Register. Free internet access to the official edition of the Federal Register and the Code of Federal Regulations is available via the Federal Digital System at: http://www.gpo.gov/fdsys. At this site you can view this document, as well as all other documents of this Department published in the Federal Register, in text or Adobe Portable Document Format (PDF). To use PDF, you must have Adobe Acrobat Reader, which is available free at this site.

You may also access documents of the Department published in the Federal Register by using the article search feature at http://www.federalregister.gov. Specifically, through the advanced search feature at this site, you can limit your search to documents published by the Department.

Program Authority: 20 U.S.C. 1098a.

Dated: October 25, 2011.
Eduardo M. Ochoa,
Assistant Secretary for Postsecondary Education.

[FR Doc. 2011-27982 Filed 10-27-11; 8:45 am]

BILLING CODE 4000-01-P